DEPARTMENT OF STATE

[Public Notice 11955]

Notice of Public Meeting To Prepare for International Maritime Organization HTW 9 Meeting

The Department of State will conduct a public meeting at 10 a.m. on Wednesday, February 1, 2023, both in-person at Coast Guard Headquarters in Washington, DC, and via teleconference. The primary purpose of the meeting is to prepare for the ninth session of the International Maritime Organization's Sub-Committee on Human Element, Training and Watchkeeping (HTW) to be held in London, United Kingdom, from Monday, February 6, 2023, to Friday, February 10, 2023.

Members of the public may participate up to the capacity of the teleconference phone line, which can handle 500 participants, or up to the seating capacity of the room if attending in-person. To RSVP, participants should contact the meeting coordinator, Mr. Charles J. Bright by email at Charles.J.Bright@uscg.mil. The meeting location will be the United States Coast Guard Headquarters, Ray Evans Conference Room, Room A, and the teleconference line will be provided to those who RSVP.

The agenda items to be considered at this meeting mirror those to be considered at HTW 9, and include:

• Adoption of the agenda

• Decisions of other IMO bodies

• Validated model training courses

• Role of the human element

• Reports on unlawful practices associated with certificates of competency

• Implementation of the Standards of Training, Certification and Watchkeeping (STCW) Convention

• Comprehensive review of the 1978 STCW Convention and Code

• Comprehensive review of the 1995 STCW-Fish Convention

• Development of measures to ensure quality of onboard training as part of the mandatory seagoing service required by the STCW Convention

• Development of measures to facilitate mandatory seagoing service required under the STCW Convention

• Development of training provisions for seafarers related to the BWM Convention

• Biennial status report and provisional agenda for HTW 10

• Election of Chair and Vice-Chair for 2024

• Any other business

• Report to the Maritime Safety Committee

Please note: The Sub-committee may, on short notice, adjust the HTW 9 agenda to accommodate the constraints associated with the meeting format. Although no changes to the agenda are anticipated, if any are necessary, they will be provided to those who RSVP.

Those who plan to attend should contact the meeting coordinator, Mr. Charles J. Bright, by email at Charles.J.Bright@uscg.mil, by phone at (202) 372-1046, or in writing at 2703 Martin Luther King Jr. Ave. SE, Stop 7509, Washington, DC 20593-7509 by January 18, 2023. Members of the public needing reasonable accommodation should also advise Mr. Charles Bright by January 18, 2023. Requests made after that date will be considered but might not be possible to fulfill. The meeting coordinator will provide the teleconference information, facilitate the building security process, and process requests for reasonable accommodation. Please note, that due to security considerations, two valid, government issued photo identifications must be presented to gain entrance to the Douglas A. Munro Coast Guard Headquarters Building at St. Elizabeth's. This building is accessible by taxi, public transportation, and privately owned conveyance (upon request).

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2022-28354 Filed 12-28-22; 8:45 am]

BILLING CODE 4710-09-P